DEPARTMENT OF TRANSPORTATION

National Highway Traffic Safety Administration

[Docket No. NHTSA-2010-0060; Notice 2]

Ford Motor Company, Grant of Petition for Decision of Inconsequential Noncompliance

AGENCY: National Highway Traffic Safety Administration, DOT.

ACTION: Grant of Petition.

SUMMARY: The Ford Motor Company (Ford), has determined that certain model year 2010 Ford Taurus passenger cars and certain model year 2010 Lincoln MKT multi-purpose vehicles do not fully comply with the requirements of paragraph S6.2 of Federal Motor Vehicle Safety Standard (FMVSS) No. 205, Glazing Materials. Ford filed an appropriate report pursuant to 49 CFR Part 573, Defect and Noncompliance Responsibility and Reports, dated November 12, 2009.

Pursuant to 49 U.S.C. 30118(d) and 30120(h) and the rule implementing those provisions at 49 CFR part 556, Ford has petitioned for an exemption from the notification and remedy requirements of 49 U.S.C. Chapter 301 on the basis that this noncompliance is inconsequential to motor vehicle safety.

Notice of receipt of Ford's petition was published, with a 30 day public comment period, on June 4, 2010, in the Federal Register (75 FR 31839). No comments were received. To view the petition and all supporting documents log onto the Federal Docket Management System (FDMS) Web site at: http://www.regulations.gov/. Then follow the online search instructions to locate docket number “NHTSA-2010-0060.”

Contact Information: For further information on this decision, contact Mr. Luis Figueroa, Office of Vehicle Safety Compliance, the National Highway Traffic Safety Administration (NHTSA), telephone (202) 366-5298, facsimile (202) 366-7002.

Vehicles Involved: Affected are approximately 15,663 model year 2010 Ford Taurus passenger car models, manufactured from June 1, 2009, through October 5, 2009, at Ford's Chicago Assembly Plant, and approximately 3,565 model year 2010 Lincoln MKT multi-purpose vehicle models, manufactured from June 29, 2009, through October 8, 2009, at Ford's Oakville Assembly Plant, a total of approximately 19,228 vehicles are not in compliance with paragraph 6.2 of FMVSS No. 205 relating to windshield marking.¹

¹ Ford additionally notes that the nonconforming windshields installed in the subject vehicles were manufactured by Zeledyne, Inc. (Zeledyne), at their facility located at 7200 W. Centennial Boulevard, Nashville, TN 37209.

Summary of Ford's Petition: Ford describes the noncompliance as the improper location of the “AS1” glazing marking. The standard requires that the “AS1” glazing marking be located in close proximity to the official designated trademark area (lower portion) of the windshield. However, Ford said that the “AS1” symbol is marked in the upper portion of the windshield; on both sides of the affected windshields and that the windshields conform to all other FMVSS No. 205 requirements.

Ford states the basis for why they believe this noncompliance is inconsequential to motor vehicle safety as:

(1) This condition does not present a risk to motor vehicle safety because the windshield fully meets the performance and physical requirements of FMVSS [No.] 205.

(2) Repair service will be unaffected because the selection of replacement windshields is typically done utilizing a distributor, a catalog, or NAGS [National Auto Glass Specification] number.

(3) Furthermore, repairers will be able to determine the appropriate glazing because the upper portions of the windshield are properly labeled with the “AS1,” designation, the glazing is clearly marked as “Laminated,” and all other markings required by FMVSS [No.] 205 are properly labeled.

(4) No other Ford vehicles are affected by this condition and Ford is not aware of any field or owner complaints related to this condition.

Additionally, Ford stated that Zeledyne discovered the noncompliance during its trademark content project study in which its laboratory personnel noticed that the “AS1” symbol was missing from the designated trademark location on the lower corner of the windshields for the affected vehicles.

Ford also has informed NHTSA that it has corrected the problem that caused these errors so that they will not be repeated in future production.

Supported by the above stated reasons, Ford believes that the described FMVSS No. 205 noncompliance is inconsequential to motor vehicle safety, and that its petition, to exempt it from providing recall notification of noncompliance as required by 49 U.S.C. 30118 and remedying the recall noncompliance as required by 49 U.S.C. 30120, should be granted.

Background Requirement: Section § 6.2 of FMVSS No. 205 specifically states:

§ 6.2 A prime glazing manufacturer certifies its glazing by adding to the marks required by section 7 of ANSI/SAE Z26.1-1996, in letters and numerals of the same size, the symbol “DOT” and a manufacturer's code mark that NHTSA assigns to the manufacturer. . . .

NHTSA Decision: FMVSS No. 205 specifies labeling and performance requirements for automotive glazing. Section § 6 of FMVSS No. 205 requires glazing material manufacturers to certify, in accordance with 49 U.S.C. 30115, each piece of glazing material to which this standard applies. A prime glazing material manufacturer certifies its glazing by adding the marks required in Section 7 of ANSI Z26.1 (1996), the symbol “DOT” and a manufacturer's code mark assigned by the NHTSA's Office of Vehicle Safety Compliance. One of the labeling requirements in Section 7 of ANSI Z26.1 (1996) is to mark automotive glazing with the item of glazing number, e.g., “AS-1”. In addition, Section 7 of ANSI Z26.1 (1996) states that the item of glazing number is to be placed in close proximity to other required markings.

According to the petition, the nature of the noncompliance is the improper placement of the glazing number on the windshield. NHTSA believes that the placement of the glazing number, separated from the other required labeling, is inconsequential to vehicle safety. The glazing number has been placed at a different location from the rest of the required markings, but all information required in FMVSS No. 205 appears on the windshield. The windshields meet all performance requirements and Ford has taken the steps to correct the problem.

In consideration of the foregoing, NHTSA has determined that Ford has met its burden of persuasion and that the subject FMVSS No. 205 glazing noncompliance is inconsequential to motor vehicle safety. Accordingly, Ford's petition is hereby granted, and Ford is exempted from the obligation of providing notification of, and a remedy for, the subject noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Authority: 49 U.S.C. 30118, 30120; delegations of authority at 49 CFR 1.95 and 501.8.

Issued on: May 21, 2013.
Claude H. Harris,
Director, Office of Vehicle Safety Compliance.

[FR Doc. 2013-12823 Filed 5-29-13; 8:45 am]

BILLING CODE 4910-59-P